DEPARTMENT OF COMMERCE

National Oceanic and Atmospheric Administration

RIN 0648-XC68

Endangered Species; File No. 1576

AGENCY: National Marine Fisheries Service (NMFS), National Oceanic and Atmospheric Administration (NOAA), Commerce.

ACTION: Notice; receipt of application for modification.

SUMMARY: Notice is hereby given that NMFS, Northeast Fisheries Science Center (NEFSC), 166 Water Street, Woods Hole, MA 02543-1026, has requested a modification to scientific research Permit No. 1576.

DATES: Written, telefaxed, or e-mail comments must be received on or before October 17, 2007.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1576.

FOR FURTHER INFORMATION CONTACT: Patrick Opay or Amy Hapeman, (301)713-2289.

SUPPLEMENTARY INFORMATION: The subject modification to Permit No. 1576, issued on November 8, 2006 (71 FR 65471) is requested under the authority of the Endangered Species Act of 1973, as amended (16 U.S.C. 1531 et seq.) and the regulations governing the taking, importing, and exporting of endangered and threatened species (50 CFR 222-226).

Permit No. 1576 authorizes the permit holder to test modifications to scallop dredge gear that may reduce the probability of turtle injuries due to gear interactions. They may also opportunistically collect biological information from sea turtles captured in other projects or fisheries to improve NMFS's ability to assess stocks and the impact of anthropogenic activities. The permit holder requests authorization to capture, hold, transport, measure, weigh, flipper and passive integrated transponder tag, satellite tag, collect tissue biopsy, photograph, salvage and necropsy up to 50 loggerhead (Caretta caretta) and 50 Kemp's ridley (Lepidochelys kempii) sea turtles annually through October 31, 2011. Researchers request up to one accidental mortality of each species annually. Research would take place in the Atlantic Ocean off the coast of the eastern United States. The main purpose of the research is to use satellite-linked tags to obtain high-resolution information on the depth, temperature, and movement of these sea turtle species in areas coincident with Northeast fisheries.

Dated: September 12, 2007.
P. Michael Payne,
Chief, Permits, Conservation and Education Division, Office of Protected Resources, National Marine Fisheries Service.

[FR Doc. E7-18303 Filed 9-14-07; 8:45 am]

BILLING CODE 3510-22-S